DEPARTMENT OF TRANSPORTATION

Federal Aviation Administration

14 CFR Part 39

[Docket No. FAA-2020-0983; Project Identifier MCAI-2020-00542-R]

RIN 2120-AA64

Airworthiness Directives; Airbus Helicopters

AGENCY: Federal Aviation Administration (FAA), DOT.

ACTION: Notice of proposed rulemaking (NPRM).

SUMMARY: The FAA proposes to supersede Airworthiness Directive (AD) 2018-05-09, which applies to all Airbus Helicopters Model AS332C, AS332C1, AS332L, and AS332L1 helicopters. AD 2018-05-09 requires inspecting the tail rotor (T/R) flapping hinge link (hinge) and reporting the results. Since the FAA issued AD 2018-05-09, the FAA has determined that repetitive inspections of the spindle bolts and the inner ring and needle bearings of each flapping hinge and repetitive replacements of affected flapping hinge components must be done in order to address the unsafe condition. Replacement of all affected flapping hinge components on each flapping hinge is terminating action for the repetitive inspections. This proposed AD would require repetitive inspections of the spindle bolts and the inner ring and needle bearings of each flapping hinge, corrective actions if necessary, and repetitive replacements of affected flapping hinge components, as specified in a European Union Aviation Safety Agency (EASA) AD, which will be incorporated by reference. This proposed AD would also expand the applicability. The FAA is proposing this AD to address the unsafe condition on these products.

DATES: The FAA must receive comments on this proposed AD by December 21, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Office of the Regional Counsel, Southwest Region, 10101 Hillwood Pkwy, Room 6N-321, Fort Worth, TX 76177. For information on the availability of this material at the FAA, call 817-222-5110. It is also available in the AD docket on the internet at https://www.regulations.gov by searching for and locating Docket No. FAA-2020-0983.

Examining the AD Docket

You may examine the AD docket on the internet at https://www.regulations.gov by searching for and locating Docket No. FAA-2020-0983; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Daniel E. Moore, Aviation Safety Engineer, Regulations & Policy Section, Rotorcraft Standards Branch, FAA, 10101 Hillwood Pkwy., Fort Worth, TX 76177; telephone 817-222-5110; email daniel.e.moore@faa.gov.

SUPPLEMENTARY INFORMATION:

Comments Invited

The FAA invites you to participate in this rulemaking by submitting written comments, data, or views about this proposal. The most helpful comments reference a specific portion of the proposal, explain the reason for any recommended change, and include supporting data. To ensure the docket does not contain duplicate comments, commenters should submit only one copy of the comments. Send your comments to an address listed under the ADDRESSES section. Include “Docket No. FAA 2020-0983; Project Identifier MCAI-2020-00542-R” at the beginning of your comments.

Except for Confidential Business Information (CBI) as described in the following paragraph, and other information as described in 14 CFR 11.35, the FAA will post all comments received, without change, as well as a report summarizing each substantive public contact with FAA personnel concerning this proposed rulemaking. Before acting on this proposal, the FAA will consider all comments received by the closing date for comments. The FAA will consider comments filed after the comment period has closed if it is possible to do so without incurring expense or delay. The FAA may change this NPRM because of those comments.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Daniel E. Moore, Aviation Safety Engineer, Regulations & Policy Section, Rotorcraft Standards Branch, FAA, 10101 Hillwood Pkwy., Fort Worth, TX 76177; telephone 817-222-5110; email daniel.e.moore@faa.gov. Any commentary that the FAA receives that is not specifically designated as CBI will be placed in the public docket for this rulemaking.

Discussion

The FAA issued AD 2018-05-09, Amendment 39-19218 (83 FR 10360, March 9, 2018) (AD 2018-05-09), which applies to all Airbus Helicopters Model AS332C, AS332C1, AS332L, and AS332L1 helicopters. AD 2018-05-09 requires inspecting the T/R flapping hinge and reporting the results. The FAA issued AD 2018-05-09 to address failure of a T/R flapping hinge. This condition could result in unbalance of the T/R, detachment of the T/R gearbox and hub, and subsequent loss of control of the helicopter.

Actions Since AD 2018-05-09 Was Issued

Since the FAA issued AD 2018-05-09, the FAA has determined repetitive inspections of the spindle bolts and the inner ring and needle bearings of each flapping hinge and repetitive replacements of affected flapping hinge components must be done in order to address the unsafe condition. Replacement of all affected flapping hinge components on each flapping hinge is terminating action for the repetitive inspections of the spindle bolts and the inner ring and needle bearings of each flapping hinge. In addition, the applicability has been expanded to include Model SA330J helicopters.

The EASA, which is the Technical Agent for the Member States of the European Union, has issued EASA AD 2020-0086, dated April 14, 2020 (EASA AD 2020-0086) (also referred to as the Mandatory Continuing Airworthiness Information, or the MCAI), to correct an unsafe condition for all Airbus Helicopters Model AS332C, AS332C1, AS332L, AS332L1, and SA330J helicopters.

This proposed AD was prompted by a report of a damaged flapping hinge on a T/R blade. The FAA is proposing this AD to address failure of a T/R flapping hinge. This condition could result in unbalance of the T/R, detachment of the T/R gearbox and hub, and subsequent loss of control of the helicopter. See the MCAI for additional background information.

Related Service Information Under 1 CFR Part 51

EASA AD 2020-0086 describes procedures for repetitive replacement of the flapping hinge components and repetitive inspections of the spindle bolts, inner ring, and needle bearings of each flapping hinge, and corrective action. The inspection procedures include repetitive inspections of the spindle bolts for cracking; repetitive inspections of the inner ring for spalling, brinelling, and cracking; and repetitive inspections of the needle bearings for spalling. The corrective actions include replacement of any affected component with a serviceable part. This material is reasonably available because the interested parties have access to it through their normal course of business or by the means identified in the ADDRESSES section.

FAA's Determination and Requirements of This Proposed AD

This product has been approved by the aviation authority of another country, and is approved for operation in the United States. Pursuant to the bilateral agreement with the State of Design Authority, the FAA has been notified of the unsafe condition described in the MCAI referenced above. The FAA is proposing this AD because the FAA evaluated all the relevant information and determined the unsafe condition described previously is likely to exist or develop in other products of the same type design.

Proposed AD Requirements

This proposed AD would require accomplishing the actions specified in EASA AD 2020-0086 described previously, as incorporated by reference, except for any differences identified as exceptions in the regulatory text of this AD and except as discussed under “Differences Between this Proposed AD and the MCAI.”

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2020-0086 will be incorporated by reference in the FAA final rule. This proposed AD would, therefore, require compliance with EASA AD 2020-0086 in its entirety, through that incorporation, except for any differences identified as exceptions in the regulatory text of this proposed AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2020-0086 that is required for compliance with EASA AD 2020-0086 will be available on the internet at https://www.regulations.gov by searching for and locating Docket No. FAA-2020-0983 after the FAA final rule is published.

Differences Between This Proposed AD and the MCAI

Although the service information referenced in EASA AD 2020-0086 specifies to return affected parts and submit a form to the manufacturer, this proposed AD does not include those requirements.

Where paragraph (1) of EASA AD 2020-0086 refers to a compliance time of “within 25 flight hours or during the next scheduled 50 FH inspection, whichever occurs later . . . ,” for the initial replacement, this proposed AD requires completion within 25 hours time-in-service after the effective date of this proposed AD.

Costs of Compliance

The FAA estimates that this proposed AD affects 26 helicopters of U.S. registry. The FAA estimates the following costs to comply with this proposed AD:

Estimated Costs for Required Actions
Labor cost | Parts cost | Cost per product | Cost on U.S. operators
8 work-hours × $85 per hour = $680 | $11,630 | $12,310 | $320,060

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-05-09, Amendment 39-19218 (83 FR 10360, March 9, 2018), and adding the following new AD:

Airbus Helicopters: Docket No. FAA-2020-0983; Project Identifier MCAI-2020-00542-R.

(a) Comments Due Date

The FAA must receive comments by December 21, 2020.

(b) Affected Airworthiness Directives (ADs)

This AD removes AD 2018-05-09, Amendment 39-19218 (83 FR 10360, March 9, 2018) (AD 2018-05-09).

(c) Applicability

This AD applies to all Airbus Helicopters Model AS332C, AS332C1, AS332L, AS332L1, and SA330J helicopters, certificated in any category, all manufacturer serial numbers.

(d) Subject

Joint Aircraft System Component (JASC) Codes 6420, Tail Rotor Head; 6720, Tail Rotor Control System.

(e) Reason

This AD was prompted by a report of a damaged flapping hinge link (hinge) on a tail rotor (T/R) blade. The FAA is issuing this AD to address failure of a T/R flapping hinge. This condition could result in unbalance of the T/R, detachment of the T/R gearbox and hub, and subsequent loss of control of the helicopter.

(f) Compliance

Comply with this AD within the compliance times specified, unless already done.

(g) Requirements

Except as specified in paragraph (h) of this AD: Comply with all required actions and compliance times specified in, and in accordance with, European Union Aviation Safety Agency (EASA) AD 2020-0086, dated April 14, 2020 (EASA AD 2020-0086).

(h) Exceptions to EASA AD 2020-0086

(1) Where EASA AD 2020-0086 refers to its effective date, this AD requires using the effective date of this AD.

(2) The “Remarks” section of EASA AD 2020-0086 does not apply to this AD.

(3) Although the service information referenced in EASA AD 2020-0086 specifies to return affected parts and submit a form to the manufacturer, this AD does not include those requirements.

(4) Where paragraph (9) of EASA AD 2020-0086 refers to “any discrepancy,” for the purposes of this AD, discrepancies include spalling, brinelling, and cracking on the inner ring, and spalling on the bearing needles.

(5) Where EASA AD 2020-0086 refers to flight hours (FH), this AD requires using hours time-in-service.

(6) Where paragraph (1) of EASA AD 2020-0086 refers to a compliance time of “within 25 flight hours or during the next scheduled 50 FH inspection, whichever occurs later . . . ,” for the initial replacement, this AD requires completion within 25 hours time-in-service after the effective date of this AD.

(i) Alternative Methods of Compliance (AMOCs)

The Manager, Rotorcraft Standards Branch, FAA, may approve AMOCs for this AD. Send your proposal to: Manager, Rotorcraft Standards Branch, FAA, 10101 Hillwood Pkwy., Fort Worth, TX 76177; telephone 817-222-5110; email 9-ASW-FTW-AMOC-Requests@faa.gov.

(j) Related Information

(1) For EASA AD 2020-0086, contact the EASA, Konrad-Adenauer-Ufer 3, 50668 Cologne, Germany; telephone +49 221 89990 6017; email ADs@easa.europa.eu; internet www.easa.europa.eu. You may find this EASA AD on the EASA website at https://ad.easa.europa.eu. You may view this material at the FAA, Office of the Regional Counsel, Southwest Region, 10101 Hillwood Pkwy, Room 6N-321, Fort Worth, TX 76177. For information on the availability of this material at the FAA, call 817-222-5110. This material may be found in the AD docket on the internet at https://www.regulations.gov by searching for and locating Docket No. FAA-2020-0983.

(2) For more information about this AD, contact Daniel E. Moore, Aviation Safety Engineer, Regulations & Policy Section, Rotorcraft Standards Branch, FAA, 10101 Hillwood Pkwy., Fort Worth, TX 76177; telephone 817-222-5110; email daniel.e.moore@faa.gov.

Issued on October 29, 2020.
Lance T. Gant,
Director, Compliance & Airworthiness Division, Aircraft Certification Service.

[FR Doc. 2020-24394 Filed 11-3-20; 8:45 am]

BILLING CODE 4910-13-P